LIBRARY OF CONGRESS

Copyright Royalty Board

37 CFR Part 386

[Docket No. 23-CRB-0010-SA-COLA (2024)]

Cost of Living Adjustment to Satellite Carrier Compulsory License Royalty Rates; Correction

AGENCY: Copyright Royalty Board (CRB), Library of Congress.

ACTION: Final rule; correction.

SUMMARY: This document corrects a final rule published in the Federal Register of November 29, 2023, regarding the cost of living adjustment (COLA) to the royalty rates that satellite carriers pay for a compulsory license under the Copyright Act.

DATES: Effective January 1, 2024.

FOR FURTHER INFORMATION CONTACT: Anita Brown, (202) 707-7658, crb@loc.gov.

SUPPLEMENTARY INFORMATION: In FR Doc. 2023-26122, appearing on page 83354 in the Federal Register of Wednesday, November 29, 2023, the following corrections are made:

§ 386.2 [Corrected]

1. On page 83354, in the second column, in part 386, in amendment 2, the instruction “Section 386.2 is amended by adding paragraphs (b)(1)(xiv) and (b)(2)(xiv) to read as follows:” is corrected to read “Section 386.2 is amended by adding paragraphs (b)(1)(xv) and (b)(2)(xv) to read as follows:”.

Dated: November 30, 2023.
David P. Shaw,
Chief Copyright Royalty Judge.

[FR Doc. 2023-26741 Filed 12-5-23; 8:45 am]

BILLING CODE 1410-72-P